DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Chevron U.S.A., Inc., Supplemental Exploration Plan SEA S-6495 | Viosca Knoll, Block 204, Lease OCS-G 04921 & Block 248, Lease OCS-G 25054, located 31 miles from the nearest Alabama shoreline | 10/4/2004
Stone Energy Corporation, Structure Removal SEA ES/SR 04-141 | East Cameron, Block 220, Lease OCS-G 03323, located 64 miles from the nearest Louisiana shoreline | 10/6/2004
BP Exploration & Production, Inc., Geological & Geophysical Exploration Plan, SEA L04-63 | Located in the central Gulf of Mexico | 10/6/2004
Comstock Offshore, LLC, Structure Removal SEA ES/SR 04-138, 04-139, 04-140 | Ship Shoal; Blocks 113, 119, 120; Leases OCS 00067, 00069, 00038; located 13 to 17 miles south of Terrebonne Parish, Louisiana | 10/6/2004
NCX Company, LLC, Structure Removal SEA 04-116, 04-117 | High Island East (South), Block A270, Lease OCS-G 02724, located 85 miles from the nearest Texas shoreline. | 10/12/2004
Shell Exploration & Production Company, Geological & Geophysical Exploration Plan for Western Geco, SEA L04-64 | Located in the central Gulf of Mexico east of Galveston, Texas | 10/14/2004
Fugro Multi-Client Services, Inc., Geological & Geophysical Exploration Plan for Fugro GeoTeam AS, SEA T04-20 | Located in the central Gulf of Mexico | 10/20/2004
Comstock Offshore, LLC, Structure Removal SEA ES/SR 04-145 | Ship Shoal, Block 118, Lease OCS-00068, located 18 miles from the nearest Louisiana shoreline | 10/28/2004
J.M. Huber Corporation, Structure Removal SEA ES/SR 04-142 | West Cameron, Block 249, OCS-G 03499, located 42 miles from the nearest Louisiana shoreline | 10/28/2004
Shell Offshore, Inc., Structure Removal SEA ES/SR 04-144 | Brazos, Block A19, Lease OCS-G 03936, located 38 miles from the nearest Louisiana shoreline | 11/1/2004
Southern Natural Gas Company, Structure Removal SEA ES/SR 04-147 | Main Pass (South and East Addition), Block 293, Lease ROW OCS-G 01906, located 26 miles from the nearest Louisiana shoreline | 11/9/2004
Remington Oil & Gas Corporation, Structure Removal SEA ES/SR 04-146 | Vermilion, Block 117, Lease OCS-G 22618, located 30 miles from the nearest Louisiana shoreline | 11/9/2004
TDC Energy, LLC, Structure Removal SEA ES/SR 04-152 | South Timbalier, Block 99, Lease OCS-G 10825, located 25 miles from the nearest Louisiana shoreline | 12/1/2004
CGG Americas, Inc., Geological & Geophysical Exploration Plan SEA L04-68 | Located in the central Gulf of Mexico | 12/6/2004
Veritas DGC Corporation, Geological & Geophysical Exploration Plan SEA T04-26 | Located in the western Gulf of Mexico | 12/6/2004
Marlin Energy Offshore, LLC, Structure Removal SEA ES/SR 04-148, 04-149 | South Timbalier, Block 21, Lease OCS-00263, located 5 miles from the nearest Louisiana shoreline | 12/6/2004
Marlin Energy Offshore, LLC, Structure Removal SEA ES/SR 04-150, 04-151 | South Timbalier, Block 28, Lease OCS-G 01362, located 5 miles from the nearest Louisiana shoreline | 12/6/2004
Anadarko Petroleum Corporation, Initial Exploration Plan, SEA N-8236 | Lloyd Ridge, Blocks 94 & 95, OCS-G 23462 & 23463, located in the eastern Gulf of Mexico | 12/7/2004
Chevron U.S.A., Inc., Initial Exploration Plan SEA N-8241 | Main Pass, Block 221, Lease OCS-G 26163, located 62 miles from the nearest Alabama shoreline | 12/8/2004
TDC Energy, Structure Removal SEA ES/SR 04-153 | South Timbalier, Block 112, Lease OCS-G 10828, located 25 miles from the nearest Louisiana shoreline | 12/8/2004
SPN Resources, Structure Removal SEA ES/SR 04-143 | West Cameron, Block 280, Lease OCS-G 00911, located 60 miles from the nearest Louisiana shoreline | 12/8/2004
Forest Oil Corporation, Structure Removal SEA ES/SR 99-027A | Main Pass, Block 98, Lease OCS-G 05694, located 38 miles from the nearest Louisiana shoreline | 12/9/2004
WesternGeco, Geological & Geophysical Exploration Plan for Total SEA L04-70 | Located in the central Gulf of Mexico | 12/10/2004
Chevron U.S.A., Inc., Initial Exploration Plan SEA N-8251 | Viosca Knoll, Block 248, Lease OCS-G 25054, located 31 miles from the nearest Alabama shoreline | 12/14/2004
Fugro GeoServices, Inc., Geological & Geophysical Exploration Plan SEA L04-72 | Located in the central Gulf of Mexico south of Patterson, LA | 12/28/2004
Veritas DGC Corporation, Geological & Geophysical Exploration Plan SEA T04-28 | Located in the western Gulf of Mexico east of Galveston, TX | 12/28/2004

Persons interested in reviewing environmental documents for the proposals listed above or obtaining information about SEAs and FONSIs prepared for activities on the Gulf of Mexico OCS are encouraged to contact MMS at the address or telephone listed in the FOR FURTHER INFORMATION CONTACT section.

Dated: January 14, 2005.
Chris C. Oynes,
Regional Director, Gulf of Mexico OCS Region.

[FR Doc. 05-3915 Filed 2-28-05; 8:45 am]

BILLING CODE 4310-MR-P